DEPARTMENT OF DEFENSE

Office of the Secretary

[Transmittal No. 18-29]

Arms Sales Notification

AGENCY: Defense Security Cooperation Agency, Department of Defense.

ACTION: Arms sales notice.

SUMMARY: The Department of Defense is publishing the unclassified text of an arms sales notification.

FOR FURTHER INFORMATION CONTACT: DSCA at dsca.ncr.lmo.mbx.info@mail.mil or (703) 697-9709.

SUPPLEMENTARY INFORMATION: This 36(b)(1) arms sales notification is published to fulfill the requirements of section 155 of Public Law 104-164 dated July 21, 1996. The following is a copy of a letter to the Speaker of the House of Representatives, Transmittal 18-29 with attached Policy Justification and Sensitivity of Technology.

Dated: September 17, 2018.
Shelly E. Finke,
Alternate OSD Federal Register Liaison Officer, Department of Defense.

BILLING CODE 5001-06-P

BILLING CODE 5001-06-C

Transmittal No. 18-29

Notice of Proposed Issuance of Letter of Offer Pursuant to Section 36(b)(1) of the Arms Export Control Act, as amended

(i) Prospective Purchaser: Government of Mexico

(ii) Total Estimated Value:

Major Defense Equipment * | $14.0 million
Other | $27.6 million
Total | $41.6 million

(iii) Description and Quantity or Quantities of Articles or Services under Consideration for Purchase:

Major Defense Equipment (MDE):

Six (6) Evolved Seasparrow Tactical Missiles (ESSM)

Two (2) Evolved Seasparrow Telemetry Missiles

Non-MDE:

Also included are one (1) MK56 VLS launcher (8-cell), eight (8) MK30 canisters, eight (8) MK783 shipping containers, spare and repair parts, support and test equipment, publications and technical documentation, training, USG/Contractor technical and engineering support services, and technical assistance.

(iv) Military Department: Navy

(v) Prior Related Cases, if any:

MX-P-AAG (57mm and 25mm ammunition)

MX-P-AAN (Rolling Airframe Missile)

MX-P-AAO (Harpoon Block II Missile)

MX-P-AAS (MK54 Torpedo)

MX-P-SAA (MH-60R Helicopter and support)

(vi) Sales Commission, Fee, etc., Paid, Offered, or Agreed to be Paid: None

(vii) Sensitivity of Technology Contained in the Defense Article or Defense Services Proposed to be Sold: See Attached Annex

(viii) Date Report Delivered to Congress: August 8, 2018

* As defined in Section 47(6) of the Arms Export Control Act.

POLICY JUSTIFICATION

Mexico—Evolved Seasparrow Missiles

The Government of Mexico has requested to buy six (6) Evolved Seasparrow tactical missiles (ESSM) and two (2) Evolved Seasparrow telemetry missiles. Also included are one (1) MK56 VLS launcher (8-cell), eight (8) MK30 canisters, eight (8) MK783 shipping containers, spare and repair parts, support and test equipment, publications and technical documentation, training, USG/Contractor technical and engineering support services, and technical assistance. The total estimated value is $41 million.

This proposed sale will support the foreign policy and national security of the United States by helping to improve the security of a strategic regional partner. The sale of these shipboard systems to Mexico will significantly increase and strengthen Mexico's maritime capabilities. Mexico intends to use these defense articles and services to modernize its armed forces and expand its existing naval and maritime support of national security requirements.

Mexico intends to use the weapons systems on its Sigma 10514 Class ship. The systems will provide enhanced capabilities in effective defense of critical sea lanes. The proposed sale of these systems and support services will increase the Mexican Navy's maritime partnership potential and align its capabilities with existing regional navies. Mexico has not purchased these systems previously. Mexico will have no difficulty integrating this equipment into its armed forces.

The proposed sale of this equipment and support will not alter the basic military balance in the region.

The principal contractor will be Raytheon Missile Systems, Tucson, Arizona. There are no known offset agreements in connection with this potential sale.

Implementation of this proposed sale will not require the assignment of any additional U.S. Government and/or contractor representatives to Mexico.

There will be no adverse impact on U.S. defense readiness as a result of this proposed sale.

Transmittal No. 18-29

Notice of Proposed Issuance of Letter of Offer Pursuant to Section 36(b)(1) of the Arms Export Control Act

Annex

Item No. vii

(vii) Sensitivity of Technology:

1. The sale of Evolved Seasparrow missiles (ESSM) under this FMS case will result in the transfer of classified missile equipment to Mexico. Both classified and unclassified defense equipment and technical data will be transferred. The missile includes the guidance section, warhead section, transition section, propulsion section, control section and Thrust Vector Control (TVC) of which the guidance section and transition section are classified CONFIDENTIAL. Standard missile documentation to be provided under this FMS case will include:

a. Parametric documents (CONFIDENTIAL)

b. Missile Handling/Maintenance Procedures (UNCLASSIFIED)

c. General Performance Data (CONFIDENTIAL)

d. Firing Guidance (CONFIDENTIAL)

e. Dynamics Information (Confidential)

2. The sale of the Evolved Seasparrow Missiles (ESSM) under this FMS case will result in the transfer of sensitive technological information and/or restricted information contained in the missile guidance section. Certain operating frequencies and performance characteristics are classified SECRET because it could be used to develop tactics and/or countermeasures to reduce or defeat the missile effectiveness.

3. If a technologically advanced adversary were to obtain knowledge of the specific hardware and software elements, primarily performance characteristics, engagement algorithms, and transmitter specific frequencies, the information could be used to develop countermeasures that might reduce weapon system effectiveness.

4. A determination has been made that the recipient country can provide substantially the same degree of protection for the sensitive technology being released as the U.S. Government. This sale is necessary in furtherance of the U.S. foreign policy and national security objectives outlined in the Policy Justification.

5. All defense articles and services listed in this transmittal have been authorized for release and export to Mexico.

[FR Doc. 2018-20519 Filed 9-20-18; 8:45 am]

BILLING CODE 5001-06-P